DEPARTMENT OF TRANSPORTATION

Federal Highway Administration

[Docket No. FHWA-2023-0026]

Agency Information Collection Activities: Request for Comments for a New Information Collection

AGENCY: Federal Highway Administration (FHWA), DOT.

ACTION: Notice and request for comments.

SUMMARY: The FHWA invites public comments about our intention to request the Office of Management and Budget's (OMB) approval for an information collection, which is summarized below under SUPPLEMENTARY INFORMATION. We are required to publish this notice in the Federal Register by the Paperwork Reduction Act of 1995.

DATES: Please submit comments by November 6, 2023.

ADDRESSES: You may submit comments identified by DOT Docket ID Number 0026 by any of the following methods:

Website: For access to the docket to read background documents or comments received go to the Federal eRulemaking Portal: Go to http://www.regulations.gov.

Follow the online instructions for submitting comments.

Fax: 1-202-493-2251.

Mail: Docket Management Facility, U.S. Department of Transportation, West Building Ground Floor, Room W12-140, 1200 New Jersey Avenue SE., Washington, DC 20590-0001.

Hand Delivery or Courier: U.S. Department of Transportation, West Building Ground Floor, Room W12-140, 1200 New Jersey Avenue SE, Washington, DC 20590, between 9 a.m. and 5 p.m. ET, Monday through Friday, except Federal holidays.

FOR FURTHER INFORMATION CONTACT: Spencer Stevens 202-366-6221, Office of Planning, Environment and Realty Federal Highway Administration, Department of Transportation, 1200 New Jersey Avenue SE, Washington, DC 20590.

SUPPLEMENTARY INFORMATION:

Title: Planning and Research Program Administration.

Background: Planning and Research Program Administration is covered under 23 CFR part 420. 23 CFR part 420 regulation includes administrative requirements and procedures for PL funds (23 U.S.C. 104(b)(5)) provided for Metropolitan Planning Organizations (MPOs) to carry out metropolitan planning, and SPR funds (provided under the provisions of 23 U.S.C. 505) for State Departments of Transportation (State DOTs) to implement statewide transportation planning and research, development and technology (RD&T) work activities. Also, at a State DOT's option, other Title 23 funds as identified in the definition of FHWA planning and research funds in 23 U.S.C. 505 and 23 CFR 420.103 may be used to perform planning activities. Different from this request, the information collection requirement for work performed by MPOs is a joint Federal Highway Administration/Federal Transit Administration requirement, and is covered under OMB Control Number 2132-0529.

In accordance with government-wide grant management procedures, a grant application must be submitted for these funds. In addition, recipients must submit periodic progress and financial reports. The content and frequency of submission of progress and financial reports specified in 23 CFR part 420 is as specified in 2 CFR 200 grant management regulations. With the implementation of 2 CFR 200, the focus will be more on using data to determine the grant's achievement outcomes and less on accountability compliance. FHWA and the State DOTs are called upon to identify clear performance goals, indicators and milestones for the grants.

This information collection supports the DOT's Strategic Objective of “Organizational Excellence” by providing an ongoing mechanism to review applications and approve Federal grants to States for their transportation planning and research, development and technology work programs.

Respondents: Each State, the District of Columbia and the Commonwealth of Puerto Rico are required to provide information. The annual number of burden hours (professional and clerical staff) per respondent for preparation of work programs and progress and financial reports is estimated to be 720 (18 weeks × 40 hours per week). The total annual burden for all respondents is estimated to be 37,440 burden hours (720 burden hours per respondent times 52 respondents).

Frequency: This annual burden consists of staff time of each respondent for preparation of the work programs, and progress and financial reports. For those respondents that elect to use biennial work programs, the burden for preparation of work programs would be significantly less for the second year.

Estimated Average Burden per Response:

Professional staff time for preparation of work programs: 400 hours/respondent.

Professional staff time for preparation of progress and financial reports: 120 hours/respondent.

Clerical staff time: 200 hours/respondent.

Estimated Total Annual Burden Hours: 720 hours/respondent × 52 respondents = 37,400 hours.

Public Comments Invited: You are asked to comment on any aspect of this information collection, including: (1) Whether the proposed collection is necessary for the FHWA's performance; (2) the accuracy of the estimated burdens; (3) ways for the FHWA to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. Chapter 35, as amended; and 49 CFR 1.48.

Issued on: August 31, 2023.
Jazmyne Lewis,
Information Collection Officer.

[FR Doc. 2023-19151 Filed 9-5-23; 8:45 am]

BILLING CODE 4910-22-P